DEPARTMENT OF DEFENSE

Defense Acquisition Regulations System

[OMB Control Number 0704-0434]

Information Collection Requirement; Defense Federal Acquisition Regulation Supplement; Radio Frequency Identification Advance Shipment Notices

AGENCY: Defense Acquisition Regulations System, Department of Defense (DoD).

ACTION: Notice and request for comments regarding a proposed extension of an approved information collection requirement.

SUMMARY: In compliance with Section 3506(c)(2)(A) of the Paperwork Reduction Act of 1995 (44 U.S.C. Chapter 35), DoD announces the proposed extension of a public information collection requirement and seeks public comment on the provisions thereof. DoD invites comments on: (a) Whether the proposed collection of information is necessary for the proper performance of the functions of DoD, including whether the information will have practical utility; (b) the accuracy of the estimate of the burden of the proposed information collection; (c) ways to enhance the quality, utility, and clarity of the information to be collected; and (d) ways to minimize the burden of the information collection on respondents, including the use of automated collection techniques or other forms of information technology. The Office of Management and Budget (OMB) has approved this information collection for use through December 31, 2009. DoD proposes that OMB approve an extension of the information collection requirement, to expire 3 years after the approval date.

DATES: DoD will consider all comments received by January 19, 2010.

ADDRESSES: You may submit comments identified by OMB Control Number 0704-0434, using any of the following methods:

Federal eRulemaking Portal: http://www.regulations.gov. Follow the instructions for submitting comments.

E-mail: dfars@acq.osd.mil. Include OMB Control Number 0704-0434 in the subject line of the message.

Fax: (703) 602-7887.

Mail: Defense Acquisition Regulations System, Attn: Ms. Cassandra R. Freeman, OUSD (AT&L) DPAP (DARS), IMD3D139, 3062 Defense Pentagon, Washington, DC 20301-3062.

Hand Delivery/Courier: Defense Acquisition Regulations System, Crystal Square 4, Suite 200A, 241 18th street, Arlington, VA 22202-3402.

Comments received generally will be posted without change to http://www.regulations.gov, including any person information provided.

FOR FURTHER INFORMATION CONTACT: Ms. Cassandra R. Freeman, at (703) 602-8383. The information collection requirement addressed in this notice is available on the World Wide Web at http://www.acq.osd.mil/dpap/dars/dfars/index.htm. Paper copies are available from Ms. Cassandra R. Freeman, OUSD (AT&L) DPAP (DARS), IMD3D139, 3062 Defense Pentagon, Washington, DC 20301-3062.

SUPPLEMENTARY INFORMATION: Title and OMB Number: Defense Federal Acquisition Regulation Supplement (DFARS) Part 211 and related clause at 252.211; Radio Frequency Identification Advance Shipment Notices, OMB Control Number 0704-0434.

Needs and Uses: DoD uses advance shipment notices for the shipment of material containing RFID tag data. DoD receiving personnel use the advance shipment notice to associate the unique identification encoded on the RFID tag with the corresponding shipment. Use of the RFID technology permits DoD an automated and sophisticated end-to-end supply chain, which has increased visibility of assets and permits delivery of supplies to the warfighter more quickly.

Affected Public: Businesses or other for-profit and not-for-profit institutions.

Annual Burden Hours: 31,556.

Number of Respondents: 25,000.

Responses per Respondent: 3,981.

Annual Responses: 101,515,500.

Average Burden per Response: Approximately 1.1 seconds.

Frequency: On Occasion.

Summary of Information Collection

The clause at DFARS 252.211-7006, Radio Frequency Identification Advance Shipment Notices, requires the contractor to ensure that the data on each passive RFID tag are unique and conforms to the requirements that they are readable and affixed to the appropriate location on the specific level of packaging in accordance with MIL-STD-129 tag placement specifications. The contractor shall encode an approved RFID tag using the appropriate instructions at the time of contract award. Regardless of the selected encoding scheme, the contractor is responsible for ensuring that each tag contains a globally unique identifier. The contractor shall electronically submit advance shipment notices with the RFID tag identification in advance of the shipment in accordance with the procedures at http://www.acq.osd.mil/log/rfid/advance_shipment_ntc.htm.

Amy G. Williams,
Editor, Defense Acquisition Regulations System.

[FR Doc. E9-27853 Filed 11-18-09; 8:45 am]

BILLING CODE P